DEPARTMENT OF TRANSPORTATION

Federal Aviation Administration

Tenth Meeting: RTCA Special Committee 221: Aircraft Secondary Barriers and Alternative Flight Deck Security Procedures

AGENCY: Federal Aviation Administration (FAA), DOT.

ACTION: Notice of RTCA Special Committee 221 meeting: Aircraft Secondary Barriers and Alternative Flight Deck Security Procedures.

SUMMARY: The FAA is issuing this notice to advise the public of a meeting of RTCA Special Committee 221: Aircraft Secondary Barriers and Alternative Flight Deck Security Procedures.

DATES: The meeting will be held July 19-20, from 9:00 a.m. to 5:00 p.m., unless stated otherwise in agenda.

ADDRESSES: The meeting will be held at RTCA, Inc., 1150 18th Street, Suite 910, NW., Washington, DC 20036.

FOR FURTHER INFORMATION CONTACT: RTCA Secretariat, 1150 18th Street, Suite 910, NW., Washington, DC 20036, telephone (202) 833-9339, fax (202) 833-9434, Web site http://www.rtca.org.

SUPPLEMENTARY INFORMATION: Pursuant to section 10(a)(2) of the Federal Advisory Committee Act (Pub. L. 92-463, 5 U.S.C., and Appendix 2), notice is hereby given for a Special Committee 221, Aircraft Secondary Barriers and Alternative Flight Deck Security Procedures.

Agenda

Tuesday July 19 (12 p.m.-5 p.m.)

Wednesday July 20 (9 a.m.-5 p.m.)

• Welcome/Introductions and Administrative Remarks

• Approval of Summary of the Ninth Meeting held May 2011, RTCA Paper No. 125-11//SC221-026

• Leadership Comments

• Review of WG Actions—Status Reports

• Incorporate Comments and Finalize New Document—Aircraft Secondary Barriers and Alternative Flight Deck Security Procedures

• SC-221 Follow on Tasks—Discussion

• Other Business

• Adjourn at 5 p.m.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 23, 2011.
Kathy Hitt,
RTCA Advisory Committee.

[FR Doc. 2011-16607 Filed 6-30-11; 8:45 am]

BILLING CODE 4910-13-P